DEPARTMENT OF HEALTH AND HUMAN SERVICES

Office of the Secretary

[Document Identifier: PSC-0937-0025/OS-0990-0221]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of currently approved collection.

Title of Information Collection: Application for Appointment as a Commissioned Officer in the U.S. Public Health Service Commissioned Corps and Supporting Regulations 42 CFR 21.22 through 42 CFR 21.34.

Form/OMB No.: OS-0937-0025.

Use: The PHS-50, Application for Appointment as a Commissioned Officer in the United States Public Health Service, is used to determine if an applicant is qualified for appointment in the Commissioned Corps of the Public Health Service (PHS). In addition, the information contained in PHS-50 establishes the basis for future assignments and benefits as a commissioned officer. The PHS-1813, Reference Request for Applicants to the U.S. Public Health Service Commissioned Corps, is used to obtain reference information concerning applicants for appointment in the Commissioned Corps of the PHS. Each applicant is required to provide four references.

Frequency: On occasion.

Affected Public: Individuals or households.

Annual Number of Respondents: 10,000 (PHS-50 2,000), (PHS-1813 8,000).

Total Annual Responses: 10,000.

Average Burden Per Response: 1 hour (PHS-50 1 hour), (PHS-1813 25 minutes).

Total Annual Hours: 4,000.

2. Type of Information Collection Request: Revision of Currently Approved collection.

Title of Information Collection: Family Planning Annual Report: Forms and Instructions and Supporting Regulations 42 CFR Part 50 and 59.

Form/OMB No.: OS-0990-0221.

Use: This annual reporting requirement is for family planning service delivery projects authorized and funded under the Population Research and Voluntary Family Planning Programs (Section 1001 Title X of the Public Health Service Act, 42 U.S.C. 300). The Family Planning Annual Report (FPAR) is the only source of annual, uniform reporting by all Title X family planning service grantees. Office of Population Affairs uses FPAR data to monitor compliance with statutory requirements, to comply with accountability and performance requirements of Government Performance and Results Act and HHS plans, and to guide program planning and evaluation.

Frequency: Annually.

Affected Public: State, local, or tribal government.

Annual Number of Respondents: 89.

Total Annual Responses: 89.

Average Burden Per Response: 30 hours.

Total Annual Hours: 2,670.

To obtain copies of the supporting statement and any related forms for the proposed paperwork collections referenced above, access the HHS Web site address at http://www.hhs.gov/oirm/infocollect/pending/ or e-mail your request, including your address, phone number, OMB number, and OS document identifier, to John.Burke@hhs.gov, or call the Reports Clearance Office on (202) 690-8356. Written comments and recommendations for the proposed information collections must be mailed within 60 days of this notice directly to the OS Paperwork Clearance Officer designated at the following address: Department of Health and Human Services, Office of the Secretary, Assistant Secretary for Budget, Technology, and Finance, Office of Information and Resource Management, Attention: John Burke (0937-0025/0990-0221), Room 531-H, 200 Independence Avenue, SW., Washington, DC 20201.

Dated: May 16, 2003.
John P. Burke III,
Office of the Secretary, Paperwork Reduction Act Reports Clearance Officer.

[FR Doc. 03-12929 Filed 5-22-03; 8:45 am]

BILLING CODE 4168-17-P